DEPARTMENT OF DEFENSE

Office of the Secretary

Submission for OMB Review; Comment Request

AGENCY: Office of the Secretary, DoD.

ACTION: Notice.

The Department of Defense has submitted to OMB for clearance, the following proposal for collection of information under the provisions of the Paperwork Reduction Act (44 U.S.C. chapter 35).

DATES: Consideration will be given to all comments received by August 18, 2003.

Title, Form, and OMB Number: Department of Defense Medical Examination Review Board Medical Information Collection Forms; DD Forms 2351, 2369, 2370, 2372, 2374, 2378, 2379, 2380, 2381, 2382, 2489, 2492, and 2632; OMB Number 0704-0396.

Type of Request: Extension.

Number of Respondents: 30,000.

Responses Per Respondent: 1.

Annual Responses: 30,000.

Average Burden Per Response: 60 minutes (average).

Annual Burden Hours: 11,000.

Needs and Uses: This information collection is necessary to determine the medical qualification of applicants to the five Service academies, the four-year Reserve Officer Training Corps College Scholarship Program, Uniform Services University of the Health Sciences, and the Army, Navy, and Air Force Scholarship and Non-Scholarship Programs. The collection of medical history of each applicant is to determine if applicants meet medical standards outlined in DoD Directive 6130.3, Physical Standards for Appointment, Enlistment and Induction, dated May 2, 1994. The completed forms are processed through medical reviewers representing their respective services to determine a medical qualification status. Associated forms may or may not be required depending on the medical information contained in the medical examination.

Affected Public: Individuals or Households.

Frequency: On Occasion.

Respondents's Obligation: Required to Obtain or Retain Benefits.

OMB Desk Officer: Ms. Cristal A. Thomas.

Written comments and recommendations on the proposed information collection should be sent to Ms. Thomas at the Office of Management and Budget, Desk Officer for DoD Health Affairs, Room 10235, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: July 11, 2003.
Patricia L. Toppings,
Alternate OSD Federal Register Liaison Officer, Department of Defense.

[FR Doc. 03-18094 Filed 7-16-03; 8:45 am]

BILLING CODE 5001-08-M